FEDERAL COMMUNICATIONS COMMISSION

47 CFR Part 1

[GN Docket No. 12-268, WT Docket Nos. 14-70, 05-211, RM-11395; FCC 15-80]

Updating Competitive Bidding Rules

AGENCY: Federal Communications Commission.

ACTION: Final rule; announcement of effective date.

SUMMARY: In this document, the Commission announces that the Office of Management and Budget (OMB) approved, on an emergency basis, a revision to an approved information collection to implement modified and new collection requirements on FCC Form 175, Application to Participate in an FCC Auction, contained in the Part 1 Report and Order, Updating Competitive Bidding Rules, FCC 15-80. This document is consistent with the Part 1 Report and Order, which stated that the Commission would publish a document in the Federal Register announcing OMB approval and the effective date of the rules and requirements.

DATES: 47 CFR 1.2105(a)(2), 1.2105(a)(2)(iii)-(vi), (a)(2)(viii)-(x), (a)(2)(xii), 1.2105(c)(3), and 1.2112(b)(1)(iii)-(vi), published at 80 FR 56764 on September 18, 2015, and revised FCC Form 175, are effective on January 22, 2016. OMB approved the information collection requirements in 47 CFR 1.2105(c)(3), 1.2110(b)(1), and 1.2112(b) on January 14, 2016.

FOR FURTHER INFORMATION CONTACT: Contact Cathy Williams, Cathy.Williams@fcc.gov, (202) 418-2918.

SUPPLEMENTARY INFORMATION: This document announces that, on January 14, 2016, OMB approved, on an emergency basis, a revision to an approved information collection to implement modified and new collection requirements on FCC Form 175, Application to Participate in an FCC Auction, and under 47 CFR 1.2105(a)(2), 1.2105(a)(2)(iii)-(vi), (a)(2)(viii)-(x), (a)(2)(xii), 1.2105(a)(3), 1.2105(c)(3), 1.2110(b)(1), 1.2112(b), and 1.2112(b)(1)(iii)-(vi), published at 80 FR 56764 on September 18, 2015. The OMB Control Number is 3060-0600. The Commission publishes this document as an announcement of the effective date of the rules and requirements. If you have any comments on the burden estimates listed below, or how the Commission can improve the collections and reduce any burdens caused thereby, please contact Cathy Williams, Federal Communications Commission, Room 1-C823, 445 12th Street SW., Washington, DC 20554. Please include the OMB Control Number, 3060-0600, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received emergency approval from OMB on January 14, 2016 for the revised information collection requirements contained in the information collection 3060-0600, Application to Participate in an FCC Auction.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0600. The foregoing document is required by the Paperwork Reduction Act of 1995, Public Law 104-13, October 1, 1995, and 44 U.S.C. 3507.

The total annual reporting burdens and costs for the respondents are as follows:

OMB Control Number: 3060-0600.

OMB Approval Date: January 14, 2016.

OMB Expiration Date: July 31, 2016.

Title: Application to Participate in an FCC Auction.

Form No.: FCC Form 175.

Respondents: Business or other for-profit entities; Not-for-profit institutions; State, local or Tribal government.

Number of Respondents and Responses: 500 respondents; 500 responses.

Estimated Time per response: 90 minutes.

Frequency of Response: On-occasion reporting requirement.

Obligation to Respond: Required to obtain or retain benefits. The statutory authority for this information collection is contained in sections 154(i) and 309(j)(5) of the Communications Act of 1934, as amended, 47 U.S.C. 4(i), 309(j)(5), and sections 1.2105, 1.2110, 1.2112 of the Commission's rules, 47 CFR 1.2105, 1.2110, 1.2112.

Total Annual Burden: 750 hours.

Total Annual Cost: None.

Privacy Act Impact Assessment: No impact(s).

Nature and Extent of Confidentiality: Information collected on FCC Form 175 is made available for public inspection. To the extent that a respondent seeks to have certain information collected on FCC Form 175 withheld from public inspection, the respondent may request confidential treatment of such information pursuant to section 0.459 of the Commission's rules, 47 CFR 0.459.

Needs and Uses: In the Part 1 Report and Order, the Commission updated many of its Part 1 competitive bidding rules. The updated Part 1 rules apply to applicants seeking to participate in future non-reverse auctions for Commission licenses and permits, including the forward auction component of the Commission's upcoming television broadcast incentive auction (BIA). The revised information collection on FCC Form 175 implements the modified and new collection requirements contained in sections 1.2105(a)(2), 1.2105(a)(2)(iii)-(vi), (a)(2)(viii)-(x), (a)(2)(xii), 1.2105(a)(3), 1.2105(c)(3), 1.2110(b)(1), 1.2112(b), and 1.2112(b)(1)(iii)-(vi) of the Commission's rules, as adopted in the Part 1 Report and Order. The information collected on the revised FCC Form 175 will be used by the Commission to determine if an applicant is legally, technically, and financially qualified to participate in a non-reverse Commission auction for Commission licenses and permits, including the forward component of the BIA. Commission staff will review the information collected on FCC Form 175 for a particular auction as part of the pre-auction process, prior to the auction being held. Staff will determine whether each applicant satisfies the Commission's requirements to participate in the auction and, if an applicant claims status as a particular type of auction participant, whether that applicant is eligible for the status claimed. This approach provides an appropriate screen to ensure serious participation and deter possible abuse of the bidding process without being unduly burdensome.

Federal Communications Commission.
Marlene H. Dortch,
Secretary, Office of the Secretary.

[FR Doc. 2016-01185 Filed 1-21-16; 8:45 am]

BILLING CODE 6712-01-P